SMALL BUSINESS ADMINISTRATION

[Disaster Declaration #10870]

Vermont Disaster Number VT-00003

AGENCY: Small Business Administration.

ACTION: Amendment 1.

SUMMARY: This is an amendment of the Presidential declaration of a major disaster for Public Assistance Only for the State of Vermont (FEMA-1698-DR), dated 05/04/2007.

Incident: Severe storms and flooding.

Incident Period: 04/15/2007 through 04/21/2007.

Effective Date: 06/04/2007.

Physical Loan Application Deadline Date: 07/03/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Vermont, dated 05/04/2007, is hereby amended to include the following areas as adversely affected by the disaster.

Primary Counties: Lamoille.

All other information in the original declaration remains unchanged.

(Catalog of Federal Domestic Assistance Number 59008)

Herbert L. Mitchell,
Associate Administrator for Disaster Assistance.

[FR Doc. E7-11345 Filed 6-12-07; 8:45 am]

BILLING CODE 8025-01-P